DEPARTMENT OF ENERGY

Federal Energy Regulatory Commission

[Project No. 2107-016]

Pacific Gas and Electric Company; Notice Granting Late Intervention

July 8, 2004.

On December 16, 2003, Pacific Gas and Electric Company filed an application for a new license for the continued operation and maintenance of the 143-megawatt Poe Project No. 2107, located on the North Fork Feather River in Butte County, near Pulga, California. The Commission issued public notice of the application on March 24, 2004, setting May 24, 2004, as the deadline for filing motions to intervene.

On June 14, 2004, Butte County, California, filed a late motion to intervene. Granting the late motion to intervene will not unduly delay or disrupt the proceeding or prejudice other parties to it. Therefore, pursuant to Rule 214,¹ the late motion to intervene filed by Butte County, California, is granted, subject to the Commission's rules and regulations.

¹ 18 CFR 385.214 (2003).

Magalie R. Salas,
Secretary.

[FR Doc. E4-1528 Filed 7-13-04; 8:45 am]

BILLING CODE 6717-01-P